DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety regulations. The individual petition is described below including, the party seeking relief, the regulatory provisions involved, the nature of the relief being requested and the petitioner's arguments in favor of relief.

Arizona Eastern Railway

Rail America, Inc

[Docket Number FRA-2002-13251]

The Arizona Eastern Railway (AE) seeks a permanent waiver of compliance from certain provisions of the Power Brakes and Drawbars regulations, 49 CFR part 232, regarding initial terminal road train air brake tests. Specifically, AE requests permission to perform the required initial terminal air brake test at a location two miles east of the Claypool, Arizona yard, where the test is currently being performed. This would require trains to travel a distance of two miles on the main line that includes public road crossings, with only a train-line continuity check prior to performing the initial terminal air brake test.

AE is making this request because its carloads have increased from 330 to over 600 carloads a month. AE claims that this increase of carloads is creating a safety and operational problem at the Claypool yard. The yard and the mainline are located between Highway 60 and a residential area. The residential area is accessed from the highway by six grade crossings. In the past, when the brake tests were performed on the shorter trains, only 2 to 3 crossings were blocked. Now that train lengths have increased, 4 to 5 crossings are blocked for an hour or longer for each brake test. AE has experienced incidents where members of the general public try to cross over or crawl under standing trains during the air brake tests. Additionally, AE is concerned about blocking emergency vehicles that may need to respond to incidents in the area.

Therefore, AE would like to perform a train line continuity test at the current location where the trains are made up and move the trains approximately two miles east to a non-congested area where the initial terminal brake test would be performed. The trains would operate over two additional road crossings, Ragus Road and Highway 60, at less than ten (10) mph prior to performing the initial terminal brake test.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2002-13251) and must be submitted to the Docket Clerk, DOT Central Docket Management Facility, Room PL-401 (Plaza Level), 400 Seventh Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC. on October 10, 2002.
Grady C. Cothen, Jr.,
Deputy Associate Administrator for Safety Standards and Program Development.

[FR Doc. 02-26468 Filed 10-17-02; 8:45 am]

BILLING CODE 4910-06-P